NATIONAL CREDIT UNION ADMINISTRATION

Submission for OMB Review; Comment Request

AGENCY: National Credit Union Administration (NCUA).

ACTION: Notice.

SUMMARY: The National Credit Union Administration (NCUA), as part of a continuing effort to reduce paperwork and respondent burden, invites the general public and other Federal agencies to comment on the following extension of a currently approved collection, as required by the Paperwork Reduction Act of 1995.

DATES: Written comments should be received on or before July 23, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Mackie Malaka at (703) 548-2704, emailing PRAComments@ncua.gov, or viewing the entire information collection request at www.reginfo.gov.

SUPPLEMENTARY INFORMATION:

OMB Number: 3133-0135.

Title: Authorization Agreement for Electronic Funds Transfer Payment.

Form: NCUA 2005.

Type of Review: Extension of a currently approved collection.

Abstract: The NCUA is required under the Debt Collection Improvement Act of 1996 to issue payments to credit unions and all other entities electronically. The “Authorization Agreement for Electronic Funds Transfer Payment” form is used to maintain up-to-date and accurate electronic payment data for new and existing credit unions. NCUA will use the information to update its vendor (credit union) electronic routing and transit data database to enable transmittal of funds and payments. If this information is not collected, NCUA will not be able to make payment electronically through the Automated Clearing House (ACH) and will be in non-compliance with the Debt Collection Improvement Act of 1996.

Affected Public: Private Sector: Not-for-profit institutions.

Estimated Total Annual Burden Hours: 25.

OMB Number: 3133-0166.

Title: Home Mortgage Disclosure Act (HMDA), 12 CFR 1003 (Regulation C).

Type of Review: Extension of a currently approved collection.

Abstract: The collection of this data is required under the Home Mortgage Disclosure Act (HMDA) (12 U.S.C. 2801 et seq.), as codified under 12 CFR part 1003, Regulation C. The information collection is intended to provide the public with loan data that can be used to help determine whether financial institutions are serving the housing needs of their communities; to assist public officials in distributing public-sector investments so as to attract private investment to areas where it is needed, and to assist in identifying possible discriminatory lending patterns and enforcing anti-discrimination statutes.

The information collection will assist NCUA's examiners, and examiners of other federal supervisory agencies, in determining that the financial institutions they supervise comply with the applicable provisions of HMDA.

Affected Public: Private Sector: Not-for-profit institutions.

Estimated Total Annual Burden Hours: 108,175.

OMB Number: 3133-0151.

Title: Leasing, 12 CFR part 714.

Type of Review: Extension of a currently approved collection.

Abstract: Section 714.5 of NCUA's Regulations requires a federal credit union engaged in leasing to obtain or have on file financial documentation demonstrating that the guarantor of an estimated residual value has the resources to meet the guarantee. Estimated residual value is the projected future value of leased property at lease end. The accuracy of the estimated residual values used in a lease program is a fundamental element in the success or failure of a lease program. The higher the estimated residual values used by a federal credit union, the greater the potential for loss. To mitigate this risk, the leasing rule requires that if the amount of the estimated residual value relied on by the federal credit union to satisfy the full payout lease requirement exceeds 25 percent of the original cost of the leased property, the credit union must obtain a guarantee of the excess from a financially capable party. If the guarantor cannot meet its guarantee, a federal credit union may suffer serious financial loss. Accordingly, it is important that a federal credit union documents that a guarantor has the financial resources and capability to meet the guarantee. If the guarantor is an insurance company, the federal credit union may satisfy this record keeping requirement by obtaining and maintaining information demonstrating that the insurance company has a rating equivalent to a B+ or better from a major rating company.

Affected Public: Private Sector: Not-for-profit institutions.

Estimated No. of Respondents: 83.

Estimated No. of Responses per Respondent: 5.

Estimated Total Annual Responses: 415.

Estimated Hours per Response: 2.

Estimated Total Annual Burden Hours: 830.

Reason for Change: Adjustment is attributed to current updated data since the last previous submission.

By Gerard Poliquin, Secretary of the Board, the National Credit Union Administration, on June 17, 2020.

Dated: June 17, 2020.
Mackie I. Malaka,
NCUA PRA Clearance Officer.

[FR Doc. 2020-13400 Filed 6-22-20; 8:45 am]

BILLING CODE 7535-01-P